DEPARTMENT OF TRANSPORTATION

National Highway Traffic Safety Administration

[U.S. DOT Docket Number NHTSA-2011-0126]

Reports, Forms, and Recordkeeping Requirements

AGENCY: National Highway Traffic Safety Administration (NHTSA), Department of Transportation.

ACTION: Request for public comment on proposed collection of information.

SUMMARY: Before a Federal agency can collect certain information from the public, it must receive approval from the Office of Management and Budget (OMB). Under procedures established by the Paperwork Reduction Act of 1995, before seeking OMB approval, Federal agencies must solicit public comment on proposed collections of information, including extensions and reinstatement of previously approved collections.

This document describes one collection of information for which NHTSA intends to seek OMB approval.

DATES: Comments must be received on or before October 21, 2011.

ADDRESSES: You may submit comments, identified by the docket number in the heading of this document, by any of the following methods:

• Federal eRulemaking Portal: Go to http://www.regulations.gov. Follow the instructions for submitting comments on the electronic docket site by clicking on “Help” or “FAQ.”

• Hand Delivery: 1200 New Jersey Avenue SE., West Building Ground Floor, Room W12-140, between 9 a.m. and 5 p.m. Eastern Time, Monday through Friday, except Federal holidays.

• Fax: 202-493-2251.

Regardless of how you submit comments, you should mention the docket number of this document.

You may call the Docket Management Facility at 202-366-9826.

Instructions: For detailed instructions on submitting comments and additional information on the rulemaking process, see the Public Participation heading of the Supplementary Information section of this document. Note that all comments received will be posted without change to http://www.regulations.gov, including any personal information provided.

Privacy Act: Anyone is able to search the electronic form of all comments received into any of our dockets by the name of the individual submitting the comment (or signing the comment, if submitted on behalf of an association, business, labor union, etc.). You may review DOT's complete Privacy Act Statement in the Federal Register published on April 11, 2000 (65 FR 19477-78) or you may visit http://www.dot.gov/privacy.html.

Docket: For access to the docket to read background documents or comments received, go to http://www.regulations.gov, or the street address listed above. Follow the online instructions for accessing the dockets.

FOR FURTHER INFORMATION CONTACT: Kil-Jae Hong, NHTSA, 1200 New Jersey Avenue SE., W52-232, NPO-520, Washington, DC 20590. Ms. Hong's telephone number is (202) 493-0524 and e-mail address is kil-jae.hong@dot.gov.

SUPPLEMENTARY INFORMATION: Under the Paperwork Reduction Act of 1995, before an agency submits a proposed collection of information to OMB for approval, it must first publish a document in the Federal Register providing a 60-day comment period and otherwise consult with members of the public and affected agencies concerning each proposed collection of information. The OMB has promulgated regulations describing what must be included in such a document. Under OMB's regulation (at 5CFR 1320.8(d), an agency must ask for public comment on the following:

(i) Whether the proposed collection of information is necessary for the proper performance of the functions of the agency, including whether the information will have practical utility;

(ii) The accuracy of the agency's estimate of the burden of the proposed collection of information, including the validity of the methodology and assumptions used;

(iii) How to enhance the quality, utility, and clarity of the information to be collected;

(iv) How to minimize the burden of the collection of information on those who are to respond, including the use of appropriate automated, electronic, mechanical, or other technological collection techniques or other forms of information technology, e.g. permitting electronic submission of responses.

In compliance with these requirements, NHTSA asks for public comments on the following proposed collection of information for which the agency is seeking approval from OMB:

Title: 49 CFR 575—Consumer Information Regulations (sections 103 and 105) Quantitative Research.

OMB Control Number: Not Assigned.

Form Number: None.

Affected Public: Passenger vehicle consumers.

Requested Expiration Date of Approval: Three years from approval date.

Abstract: The Energy Independence and Security Act of 2007 (EISA), enacted in December 2007, included a requirement that the National Highway Traffic Safety Administration (NHTSA) develop a consumer information and education campaign to improve consumer understanding of automobile performance with regard to fuel economy, Greenhouse Gases (GHG) emissions and other pollutant emissions; of automobile use of alternative fuels; and of thermal management technologies used on automobiles to save fuel. In order to effectively achieve the objectives of the consumer education program and fulfill its statutory obligations, NHTSA proposes a multi-phased research project to gather the data and apply analyses and results from the project to develop the consumer information program and education campaign. NHTSA has conducted qualitative research and is now requesting to conduct follow-up quantitative research with consumers to assess current levels of knowledge surrounding these issues, explore current available fuel economy-related content for clarity and understanding, evaluate potential consumer-facing messages and their potential to encourage consumers to seek more fuel economy-related information from NHTSA, and explore communications channels in which these messages should be present. The research will allow NHTSA to refine the fuel economy-related content and consumer-facing messaging that will be used throughout the consumer education campaign by identifying what relevant issues consumers care more about and what information they still need to make more informed purchase and driver behavior decisions.

Estimated Annual Burden: 1,333.33 hours.

Number of Respondents: 4,000.

NHTSA proposed to conduct two research phases. For the first phase, NHTSA conducted one type of qualitative research consisting of two (2) focus groups in each of four (4) cities. The results of that research phase were used to inform the quantitative phase of research which this notice addresses. This quantitative research will consist of an online survey that will require approximately 20 minutes for each respondent to complete, and will require 4,000 participants. NHTSA plans to administer this study one time.

The estimated annual burden hour for the second phase of research is 1,333.33 hours (20 minutes × 4,000 participants). Based on the Bureau of Labor and Statistics' median hourly wage (all occupations) in the May 2010 National Occupational Employment and Wage Estimates, NHTSA estimates that it will take an average of $16.27 per hour for professional and clerical staff to gather data, develop and distribute material. Therefore, the agency estimates that the cost associated with the burden hours is $21,693.28 ($16.27 per hour × 1,333.33 burden hours).

Comments are invited on: Whether the proposed collection of information is necessary for the proper performance of the functions of the Department, including whether the information will have practical utility; the accuracy of the Department's estimate of the burden of the proposed information collection; ways to enhance the quality, utility and clarity of the information to be collected; and ways to minimize the burden of the collection of information on respondents, including the use of automated collection techniques or other forms of information technology.

Issued on: August 17, 2011.
Gregory A. Walter,
Senior Associate Administrator, Policy and Operations.

[FR Doc. 2011-21399 Filed 8-19-11; 8:45 am]

BILLING CODE 4910-59-P